NATIONAL SCIENCE FOUNDATION

Sunshine Act Meeting

The National Science Board's Committee on Oversight (CO), pursuant to National Science Foundation regulations (45 CFR part 614), the National Science Foundation Act, as amended (42 U.S.C. 1862n-5), and the Government in the Sunshine Act (5 U.S.C. 552b), hereby gives notice of the scheduling of a teleconference for the transaction of National Science Board business, as follows:

TIME AND DATE: Wednesday, February 3, 2021 from 12:00-1:00 p.m. EST.

PLACE: This meeting will be held by teleconference through the National Science Foundation, 2415 Eisenhower Avenue, Alexandria, VA 22314.

STATUS: Open.

MATTERS TO BE CONSIDERED: Committee Chair's opening remarks; review and approve a handbook describing CO activity; discuss priority items from the workplan for the CO's broader impacts inquiry; discuss topics for the Chair's upcoming meeting with the Committee on Equal Opportunity in Science and Engineering (CEOSE); consider broader impacts as a part of NSF's strategic plan under development; and Committee Chair's closing remarks.

CONTACT PERSON FOR MORE INFORMATION: Point of contact for this meeting is: Ann Bushmiller, 2415 Eisenhower Avenue, Alexandria, VA 22314. Telephone: 703/292-7000. To listen to this teleconference, members of the public must send an email to nationalsciencebrd@nsf.gov at least 24 hours prior to the teleconference. The National Science Board Office will send requesters a toll-free dial-in number. Meeting information and updates may be found at http://www.nsf.gov/nsb/notices/.jsp#sunshine. Please refer to the National Science Board website at www.nsf.gov/nsb for general information.

Chris Blair,
Executive Assistant to the National Science Board Office.

[FR Doc. 2021-02084 Filed 1-27-21; 4:15 pm]

BILLING CODE 7555-01-P